DEPARTMENT OF TRANSPORTATION

Federal Aviation Administration

Fifteenth Meeting: Subcommittee 227 (SC 227)

AGENCY: Federal Aviation Administration (FAA), U.S. Department of Transportation (DOT).

ACTION: Fifteenth meeting notice of Subcommittee 227.

SUMMARY: The FAA is issuing this notice to advise the public of the fifteenth meeting of the Subcommittee 227.

DATES: The meeting will be held September 14th-18th from 9:00 a.m.-4:30 p.m.

ADDRESSES: The meeting will be held at RTCA Headquarters, 1150 18th Street NW., Suite 910, Washington, DC 20036, Tel: (202) 330-0663.

FOR FURTHER INFORMATION CONTACT: The RTCA Secretariat, 1150 18th Street NW., Suite 910, Washington, DC 20036, or by telephone at (202) 833-9339, fax at (202) 833-9434, or Web site at http://www.rtca.org or Sophie Bousquet, Program Director, RTCA, Inc., sbousquet@rtca.org, 202-330-0663.

SUPPLEMENTARY INFORMATION: Pursuant to section 10(a)(2) of the Federal Advisory Committee Act (Pub. L. 92-463, 5 U.S.C., App.), notice is hereby given for a meeting of the Subcommittee 227. The agenda will include the following:

Monday, September 14-18, 2015

1. Welcome and Administrative Remarks

2. Introductions

3. Agenda Overview

4. Approval of Meeting #14 Minutes

5. Overview of Planned Work Program for the Week

6. FRAC Resolution for DO-283A Update

7. Plenary Review/Discussion

8. Planned Work Schedule

9. Review of FRAC comments/worksheet, and committee resolution of comments

10. Approval of the document to go to the PMC

11. 9:00 a.m. to 4:30 p.m. each day (start and end times may be adjusted after opening plenary session)

12. Other Business

13. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on June 24, 2015.
Latasha Robinson,
Management & Program Analyst, NextGen, Program Oversight and Administration, Federal Aviation Administration.

[FR Doc. 2015-16053 Filed 6-29-15; 8:45 am]

BILLING CODE 4910-13-P